DEPARTMENT OF COMMERCE

National Oceanic and Atmospheric Administration

RIN 0648-XG288

Marine Mammals; File No. 21485

AGENCY: National Marine Fisheries Service (NMFS), National Oceanic and Atmospheric Administration (NOAA), Commerce.

ACTION: Notice; receipt of application.

SUMMARY: Notice is hereby given that Jooke Robbins, Ph.D., Center for Coastal Studies, 5 Holway Avenue, Provincetown, MA 02657, has applied in due form for a permit to conduct research on cetaceans.

DATES: Written, telefaxed, or email comments must be received on or before July 30, 2018.

ADDRESSES: The application and related documents are available for review by selecting “Records Open for Public Comment” from the “Features” box on the Applications and Permits for Protected Species (APPS) home page, https://apps.nmfs.noaa.gov, and then selecting File No. 21485 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Carrie Hubard or Amy Hapeman, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant proposes to continue a long-term study of large whales in the Western Atlantic Ocean. The focus of the research would be on humpback (Megaptera novaeangliae) and fin (Balaenoptera physalus) whales, but six other whale species would be studied if observed. Research would occur in three study areas: (1) Gulf of Maine and adjacent waters, (2) waters off U.S. mid-Atlantic and southeastern states, and (3) humpback breeding grounds, including U.S. waters off Puerto Rico. Research would occur during vessel surveys and include photo-identification, photogrammetry, behavioral observations, and sampling of exhaled air, skin, blubber, and feces. An additional 11 species of small cetaceans, two species of pinnipeds, and North Atlantic right whales (Eubalena glacialis) may be incidentally harassed during research. The objectives of the research are to study the biology and ecology of these whale species by examining population dynamics, movement and habitat use patterns, molecular genetics, reproduction, aging, toxicology, foraging ecology, health, entanglement, and other human interactions. The permit would be valid for five years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: June 25, 2018.
Amy Sloan,
Deputy Chief, Permits and Conservation Division, Office of Protected Resources, National Marine Fisheries Service.

[FR Doc. 2018-13997 Filed 6-28-18; 8:45 am]

BILLING CODE 3510-22-P